NUCLEAR REGULATORY COMMISSION

Best Practices To Establish and Maintain a Safety Conscious Work Environment; Request for Comments and Announcement of Public Meeting

AGENCY: Nuclear Regulatory Commission.

ACTION: Request for comments and announcement of public meeting.

SUMMARY: The 1996 NRC Policy Statement, “Freedom of Employees in the Nuclear Industry to Raise Safety Concerns Without Fear of Retaliation,” provides the agency's broad expectations with respect to licensees establishing and maintaining a Safety Conscious Work Environment (SCWE); that is, an environment in which employees are encouraged to raise safety concerns both to their own management and to the NRC without fear of retaliation. In a March 26, 2003 Staff Requirements Memorandum, the Commission directed the staff to develop further guidance, in consultation with stakeholders, that identifies “best practices” to encourage a SCWE. The NRC staff is now proceeding to develop that guidance.

As an initial step, the NRC will be holding a public workshop on February 19, 2004, at One White Flint North, 11555 Rockville Pike, O-1G16, Rockville, Maryland from 9 a.m.-4 p.m. to discuss multiple issues. These issues include: (1) The format such guidance should take; (2) Effective ways to encourage employees to raise safety concerns; (3) Effective processes to review and respond to concerns; (4) The scope of training on SCWE principles; (5) Tools to measure the health of the SCWE; (6) The role of the contractor; and, (7) The role of senior management in preventing claims of retaliation. To stimulate stakeholder's thinking and encourage a dialogue at the public meeting, the NRC has prepared for comment an outline of a “Best Practices” document. This document can be found on the NRC's Web site at www.nrc.gov by selecting What We Do, Allegations, and then Best Practices to Establish and Maintain a Safety Conscious Work Environment. This document is also available in ADAMS at ML040350487. In preparing this document, the staff reviewed the existing guidance provided in the 1996 Policy Statement, including the elements and attributes described therein of a healthy SCWE, and created a draft “Best Practices” outline that expands that guidance or adds new guidance where additional information would help describe best practices to meet the intent of each SCWE attribute.

The NRC's 1996 Policy Statement was directed to all employers, including licensees and their contractors, subject to NRC authority, and their employees. Hence, any further “Best Practices” guidance will also apply to this broad audience. It is important to note that the best practices outlined in this document may not be practical or necessary for all employers. Rather, the purpose of this guidance is to outline what has worked best at some larger licensees to maintain or improve a work environment and ensure its employees feel free to raise safety concerns.

DATES: The workshop will be held on February 19, 2004. The comment period expires on March 19, 2004.

ADDRESSES: The workshop will be held on One White Flint North, 11555 Rockville Pike, O-1G16, Rockville, Maryland from 9 a.m.-4 p.m. You may submit comments by any of the following methods. Comments submitted in writing or in electronic format will be made available to the public in their entirety on the NRC Web site. Personal information will not be removed from your comments. Mail comments to: Chief, Rules and Directives Branch, U.S. Nuclear Regulatory Commission, Washington, DC 20555-0001. You may comment at NRC's Web site at http://www.nrc.gov/what-we-do/regulatory/allegations/practices-outline.html, or by e-mail to: NRCREP@nrc.gov. Hand deliver comments to: 11555 Rockville Pike, Rockville, Maryland, between 7:30 a.m. and 4:15 p.m. on Federal workdays. Fax comments to: Chief, Rules and Directives Branch, U.S. Nuclear Regulatory Commission at (301) 415-5144. Publicly available documents related to this action may be viewed electronically on the public computers located at the NRC's Public Document Room (PDR), O1F21, One White Flint North, 11555 Rockville Pike, Rockville, Maryland. The PDR reproduction contractor will copy documents for a fee. Publicly available documents created or received at the NRC after November 1, 1999, are available electronically at the NRC's Electronic Reading Room at http://www.nrc.gov/reading-rm/adams.html. From this site, the public can gain entry into the NRC's Agencywide Documents Access and Management System (ADAMS), which provides text and image files of NRC's public documents. If you do not have access to ADAMS or if there are problems in accessing the document located in ADAMS, contact the NRC PDR Reference staff at 1-800-397-4209, 301-415-4737, or e-mail to pdr@nrc.gov.

FOR FURTHER INFORMATION CONTACT: Lisamarie Jarriel, Agency Allegations Advisor, Office of Enforcement, U.S. Nuclear Regulatory Commission, Washington, DC 20555-0001, (301) 415-8529, e-mail LLJ@nrc.gov.

Dated at Rockville, Maryland, this 6th day of February, 2004.
For the Nuclear Regulatory Commission.
Frank J. Congel,
Director, Office of Enforcement.

[FR Doc. 04-3063 Filed 2-9-04; 11:16 am]

BILLING CODE 7590-01-P